DEPARTMENT OF JUSTICE

Notice of Lodging of Consent Decree Under the Comprehensive Environmental Response, Compensation, and Liability Act of 1980

Under 28 CFR 50.7 notice is hereby given that on March 26, 2002, a proposed consent decree in United States v. Great Western Inorganics, Inc., Civil Action No. 02-N-0604, was lodged with the United States District Court for the District of Colorado.

In this action the United States alleges that under sections 107(a) and 113(g)(2) of the Comprehensive Environmental Response, Compensation, and Liability Act of 1980 (“CERCLA”), as amended, 42 U.S.C. 9607(a) and 9613(g)(2), Great Western Inorganics, Inc. (“GWI”) is liable for the recovery of costs incurred or to be incurred by the United States in response to releases or threatened releases of hazardous substances at and from the GWI's chemical manufacturing facility located in the Rocky Flats Industrial Park Site in unincorporated Jefferson County, Colorado (the “Facility”). Under the terms of the proposed consent decree, which is based in part on GWI's limited financial resources, GWI will pay the Environmental Protection Agency (“EPA”) $220,000 over a period of three years in reimbursement of EPA's response costs. GWI will also perform work at the Facility valued at $333,000 to enhance and maintain EPA's response actions and will enter into an environmental covenant designed to ensure the continued protectiveness of those response actions.

The Department of Justice will receive for a period of thirty (30) days from the date of this publication comments relating to the Decree. Comments should be addressed to the Assistant Attorney The United States' covenant is conditioned on the veracity and completeness of the financial information General, Environment and Natural Resources Division, P.O. Box 7911, U.S. Department of Justice, Washington, DC 20044-7611, and should refer to United States v. Great Western Inorganics, Inc, D.J. Ref. 90-11-3-1719/3. Commenters may request an opportunity for a public meeting in the affected area, in accordance with Section 7003(d) of RCRA, 42 U.S.C. 6973(d).

The proposed consent decree may be examined at U.S. EPA Region 8, 999 18th Street, Suite 500, Denver, Colorado, 80202. A copy of the consent decree may also be obtained by mail from the Consent Decree Library, P.O. Box 7611, U.S. Department of Justice, Washington, D.C. 20044-7611 fax. no. (202) 616-6584; phone confirmation no. (202) 514-1547. In requesting a copy, please enclose a check in the amount of $15.50 (25 cents per page reproduction cost) payable to the Consent Decree Library. In requesting a copy exclusive of exhibits and defendants' signatures, please enclose a check in the amount of $7.00 (25 cents per age reproduction cost) payable to the Consent Decree Library. The check should refer to United States v. Great Western Inorganics, Inc., CA No. 02-N-0604, D. CO. and DOJ #90-11-3-1719/3.

Robert Brook,
Assistant Section Chief, Environmental Enforcement Section, Environment and Natural Resources Division.

[FR Doc. 02-8362 Filed 4-5-02; 8:45 am]

BILLING CODE 4410-15-M